CONSUMER PRODUCT SAFETY COMMISSION

Sunshine Act Meeting Notice

TIME AND DATE: Monday, January 8, 2018; 1:00 p.m.*

* The Commission unanimously determined by recorded vote that Agency business requires calling the meeting without seven calendar days advance public notice.

PLACE: Hearing Room 420, Bethesda Towers, 4330 East West Highway, Bethesda, MD 20814.

STATUS: Commission Meeting—Closed to the Public.

MATTER TO BE CONSIDERED: Compliance Matter: The Commission staff will brief the Commission on the status of a compliance matter.

CONTACT PERSON FOR MORE INFORMATION: Alberta E. Mills, Acting Secretary, Office of the Secretariat, U.S. Consumer Product Safety Commission, 4330 East West Highway, Bethesda, MD 20814, (301) 504-7479.

Dated: January 4, 2018.
Alberta E. Mills,
Acting Secretary.

[FR Doc. 2018-00229 Filed 1-5-18; 11:15 am]

BILLING CODE 6355-01-P